INTERNATIONAL TRADE COMMISSION

Notice of Appointment of Individuals To Serve as Members of Performance Review Boards

AGENCY: United States International Trade Commission.

ACTION: Appointment of individuals to serve as members of performance review board.

EFFECTIVE DATES: July 10, 2001.

FOR FURTHER INFORMATION CONTACT: Micheal J. Hillier, Director of Personnel U.S. International Trade Commission (202) 205-2651.

SUPPLEMENTARY INFORMATION: The Chairman of the U.S. International Trade Commission has appointed the following individuals to serve on the Commission's Performance Review Board (PRB).

Chairman of PRB: Vice-Chairman Deanna Tanner Okun.

Members: Commissioner Lynn M. Bragg, Commissioner Marcia E. Miller, Commissioner Jennifer A. Hillman, Commissioner Dennis M. Devaney, Robert A. Rogowsky, Lyn M. Schlitt, Stephen A. McLaughlin, Eugene A. Rosengarden, Lynn Featherstone, Vern Simpson, Lynn I. Levine, Robert B. Koopman.

Notice of these appointments is being published in the Federal Register pursuant to the requirement of 5 U.S.C. 4314(c)(4).

Hearing-impaired individuals are advised that information on this matter can be obtained by contacting our TDD terminal on (202) 205-1810.

Issued: July 10, 2001.
By order of the Chairman:
Donna R. Koehnke,
Secretary.

[FR Doc. 01-17663 Filed 7-13-01; 8:45 am]

BILLING CODE 7020-02-P